DEPARTMENT OF LABOR

Employment and Training Administration

[TA-W-61,038]

Delphi Corporation, Automotive Holdings Group, Including Workers Whose Wages Are Reported Under the Employer Identification Number for General Motors Corporation, and Including On-Site Leased Workers from Bartech, MSX, Inc., Production Design Services, Troy Design and Setech, Inc., Moraine, OH; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on March 16, 2007, applicable to workers of Delphi Corporation, Automotive Holdings Group, including on-site leased workers of Bartech, MSX, Inc., Production Design Services and Troy Design, Moraine, Ohio. The notice was published in the Federal Register on March 30, 2007 (72 FR 15167). The certification was amended on May 1, 2008 to include on-site leased workers from Setech, Inc. The notice was published in the Federal Register on May 13, 2008 (73 FR 27558).

At the request of a State agency, the Department reviewed the certification for workers of the subject firm. The workers were engaged in the production of automotive compressors and pistons. New information provided to the Department shows that in March 2006, following a “Plan of Reorganization” agreement between Delphi Corporation and General Motors Corporation, some workers of the subject firm had their wages reported under the Unemployment Insurance (UI) tax account for General Motors Corporation.

Accordingly, the Department is amending this certification to properly reflect this matter.

The amended notice applicable to TA-W-63,038 is hereby issued as follows:

“All workers of Delphi Corporation, Automotive Holdings Group, including workers whose wages are reported under the employer identification number for General Motors Corporation, and including on-site leased workers from Bartech, MSX, Inc., Production Design Services, Troy Design and Setech, Inc., Moraine, Ohio, who became totally or partially separated from employment on or after February 26, 2006, through March 16, 2009, are eligible to apply for adjustment assistance under Section 223 of the Trade Act of 1974, and are also eligible to apply for alternative trade adjustment assistance under Section 246 of the Trade Act of 1974.”

Signed at Washington, DC, this 7th day of July 2008.
Linda G. Poole,
Certifying Officer, Division of Trade Adjustment Assistance.

[FR Doc. E8-16073 Filed 7-14-08; 8:45 am]

BILLING CODE 4510-FN-P